DEPARTMENT OF ENERGY

Proposed Agency Information Collection

AGENCY: Office of Energy Efficiency and Renewable Energy, U.S. Department of Energy.

ACTION: Submission for Office of Management and Budget (OMB) review; notice and request for comments.

SUMMARY: The Department of Energy (DOE) has submitted an information collection package to OMB for review under the provisions of the Paperwork Reduction Act of 1995. The package requests approval of the information collection described in this notice. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 30, 2008. If you anticipate difficulty in submitting comments within the period of time allowed by this notice, please advise the OMB Desk Officer of your intention to make a submission as soon as possible. The Desk Officer may be telephoned at 202-395-4650.

ADDRESSES: Comments may be sent to:

DOE Desk Officer, Office of Management and Budget, New Executive Office Building, Room 10102, 735 17th Street, NW., Washington, DC 20503,

and to:

Ms. Christy Cooper, Office of Energy Efficiency and Renewable Energy, U.S. Department of Energy, EE-2H, 1000 Independence Avenue, SW., Washington, DC 20585,

by phone at 202-586-1885, fax at 202-586-9811, or e-mail at christy.cooper@ee.doe.gov.

FOR FURTHER INFORMATION CONTACT: Requests for additional information or copies of the information collection instrument and instructions should be directed to Ms. Christy Cooper using the contact information listed above.

SUPPLEMENTARY INFORMATION: The information collection package listed in this notice for public comment include the following:

(1) OMB No.: New.

(2) Package Title: Hydrogen and Fuel Cells Knowledge and Opinions Survey of Safety and Code Officials.

(3) Type of Review: New collection.

(4) Purpose: The Knowledge and Opinions Survey of Safety and Codes Officials will measure the levels of awareness and understanding of hydrogen and fuel cell technologies within this population. Information gathered in this assessment will assist DOE's Hydrogen Education Program in formulating an overall education plan for hydrogen technologies. Changes in knowledge levels will be determined when, after three years, the population will be surveyed again using the same survey instrument and methodology.

(5) Respondents: Interviews with 200 total officials will be conducted using computer-assisted telephone interview technology. Lists of persons responsible for safety and codes will be compiled from the following universe: agencies responsible for developing codes related to hydrogen and fuel cell technologies, including members of the International Code Council and the National Fire Protection Association; and safety officials responsible for adopting, enacting, and/or enforcing codes related to buildings and fire safety, including members of the National Association of State Fire Marshals, who are responsible for fire prevention, and the International Association of Fire Chiefs, who are responsible for fire protection.

(6) Estimated Number of Burden Hours: 40 hours (12 minutes per interview times 200 respondents).

Statutory Authority: Department of Energy Organization Act, Public Law 95-91.

Issued in Washington, DC, on April 22, 2008.
John Mizroch,
Principal Deputy Assistant Secretary, Energy Efficiency and Renewable Energy.

[FR Doc. E8-9468 Filed 4-29-08; 8:45 am]

BILLING CODE 6450-01-P